DEPARTMENT OF VETERANS AFFAIRS

[OMB Control No. 2900-0474]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to pay the necessary funding fee for VA guaranteed loans.

DATES: Written comments and recommendations on the proposed collection of information should be received on or before November 15, 2004.

ADDRESSES: Submit written comments on the collection of information to Nancy J. Kessinger, Veterans Benefits Administration (20M35), Department of Veterans Affairs, 810 Vermont Avenue, NW., Washington, DC 20420 or e-mail to: irmnkess@vba.va.gov. Please refer to “OMB Control No. 2900-0474” in any correspondence.

FOR FURTHER INFORMATION CONTACT: Nancy J. Kessinger at (202) 273-7079 or fax (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Create Payment Request for the VA Funding Fee Payment System (VA FFPS) Computer Generated Funding Fee Receipt (Formerly VA Forms 26-8986 and 26-8986-1).

OMB Control Number: 2900-0474.

Type of Review: Extension of a currently approved collection.

Abstract: A funding fee must be paid to VA before a loan can be guaranteed. The funding fee is payable on all guaranteed loans but is not required from veterans in receipt of compensation for service connected disability. The VA Funding Fee Payment System (FFPS) permits lenders to pay the funding fee online. This application calculates the appropriate fee and lenders can usually print their receipts out in 24 hours. The data entered into VA FFPS is necessary to ensure the right amount is calculated.

Affected Public: Individuals or households and business or other for profit.

Estimated Annual Burden: 14,167 hours.

Estimated Average Burden Per Respondent: 2 minutes.

Frequency of Response: One-time.

Estimated Number of Respondents: 425,000.

Dated: September 1, 2004.
By direction of the Secretary.
Loise Russell,
Director, Records Management Service.

[FR Doc. 04-20751 Filed 9-14-04; 8:45 am]

BILLING CODE 8320-01-P